DEPARTMENT OF ENERGY

Federal Energy Regulatory Commission

[Docket Nos.—ER06-615-000; ER07-1257-000]

California Independent System Operator Corporation; Notice of FERC Staff Attendance

January 21, 2009.

The Federal Energy Regulatory Commission (Commission) hereby gives notice that on the following dates members of its staff will participate in teleconferences and attend a stakeholder meeting of the California Independent System Operator (CAISO). Unless otherwise noted, the meeting will be held at the CAISO, 151 Blue Ravine Road, Folsom, CA or by teleconference. The agenda and other documents for the teleconferences and meetings are available on the CAISO's Web site, http://www.caiso.com.

January 20, 2009—Teleconference on MRTU Parallel Operations

January 22, 2009—MRTU Final Cutover and Reversion Meeting

January 27, 2009—Teleconference on MRTU Parallel Operations

Sponsored by the CAISO, the teleconferences and meeting are open to all market participants, and the Commission staff's attendance is part of the Commission's ongoing outreach efforts. The teleconferences and meeting may discuss matters at issue in the above captioned dockets.

For further information, contact Saeed Farrokhpay at saeed.farrokhpay@ferc.gov; (916) 294-0233 or Maury Kruth at maury.kruth@ferc.gov, (916) 294-0275.

Kimberly D. Bose,
Secretary.

[FR Doc. E9-1760 Filed 1-27-09; 8:45 am]

BILLING CODE 6717-01-P